DEPARTMENT OF COMMERCE

National Oceanic and Atmospheric Administration

Pacific Fishery Management Council; Public Meetings

AGENCY: National Marine Fisheries Service, National Oceanic and Atmospheric Administration, Commerce.

ACTION: Notice of public meetings.

SUMMARY: The Pacific Fishery Management Council (Pacific Council) and its advisory entities will hold public meetings.

DATES: The Pacific Council and its advisory entities will meet April 8-14, 2016. The Pacific Council meeting will begin on Saturday, April 9, 2016 at 8 a.m., reconvening each day through Thursday, April 14, 2016. All meetings are open to the public, except a closed session will be held at 3 p.m. on Saturday, April 9 to address litigation and personnel matters. The Pacific Council will meet as late as necessary each day to complete its scheduled business.

ADDRESSES: Meetings of the Council and its advisory entities will be held at the Hilton Vancouver Hotel, 301 West Sixth Street, Vancouver, WA 98660; telephone 360-993-4500; and the Heathman Lodge, 7801 NE. Greenwood Drive, Vancouver, WA 98662; phone: (360) 254-3100.

Council address: Pacific Fishery Management Council, 7700 NE. Ambassador Place, Suite 101, Portland, OR 97220. Instructions for attending the meeting via live stream broadcast are given under SUPPLEMENTARY INFORMATION, below.

FOR FURTHER INFORMATION CONTACT: Dr. Donald O. McIsaac, Executive Director; telephone: (503) 820-2280 or (866) 806-7204 toll free; or access the Pacific Council Web site, http://www.pcouncil.org for the current meeting location, proposed agenda, and meeting briefing materials.

SUPPLEMENTARY INFORMATION: The April 9-14, 2016 meeting of the Pacific Council will be streamed live on the Internet. The broadcasts begin at 8 a.m. Pacific Time (PT) Saturday, April 9, 2016 and continue daily through Thursday, April 14, 2016. Broadcasts end daily at 6 p.m. PT or when business for the day is complete. Only the audio portion and presentations displayed on the screen at the Pacific Council meeting will be broadcast. The audio portion is listen-only; you will be unable to speak to the Pacific Council via the broadcast. To access the meeting online please use the following link: http://www.gotomeeting.com/online/webinar/join-webinar and enter the April Webinar ID, 105-442-547 and your email address. You can attend the webinar online using a computer, tablet, or smart phone, using the GoToMeeting application. It is recommended that you use a computer headset to listen to the meeting, but you may use your telephone for the audio portion only of the meeting. The audio portion may be attended using a telephone by dialing the toll number 1-646-307-1720 (not a toll-free number), audio access code 391-457-815, and enter the audio pin shown after joining the webinar.

The following items are on the Pacific Council agenda, but not necessarily in this order. Agenda items noted as “(Final Action)” refer to actions requiring the Council to transmit a proposed fishery management plan, proposed plan amendment, or proposed regulations to the Secretary of Commerce, under Sections 304 or 305 of the Magnuson-Stevens Fishery Conservation and Management Act. Additional detail on agenda items, Council action, advisory entity meeting times, and meeting rooms are described in Agenda Item A.4, Proposed Council Meeting Agenda, and will be in the advance April 2016 briefing materials and posted on the Council Web site at www.pcouncil.org.

A. Call to Order

1. Opening Remarks

2. Roll Call

3. Executive Director's Report

4. Approve Agenda

B. Open Comment Period

1. Comments on Non-Agenda Items

C. Administrative Matters

1. Marine Planning Update

2. Comments on Bycatch Strategy and Bycatch Reduction Plans

3. Catch Share Program Review: Comments on National Guidance and Preliminary Plan for West Coast Trawl Catch Share Program Review

4. Legislative Matters

5. Electronic Technology Plan Update

6. Membership Appointments and Council Operating Procedures

7. Future Council Meeting Agenda and Workload Planning

D. Enforcement Issues

1. Annual U.S. Coast Guard Fishery Enforcement Plan

2. Final Action on Regulations for Vessel Movement Monitoring

E. Salmon Management

1. Tentative Adoption of 2016 Ocean Salmon Management

2. Methodology Review Preliminary Topic Selection

3. Clarify Council Direction on 2016 Management Measures

4. Final Action on 2016 Salmon Management Measures

5. Annual Management Schedule Changes Amendment Scoping

F. Groundfish Management

1. National Marine Fisheries Service Report

2. Final Action to Implement the 2016 Pacific Whiting Fishery Under the U.S.-Canada Pacific Whiting Fishery

3. Final Action to Adopt Biennial Specifications for 2017-18 Fisheries

4. Final Action to Adopt Fixed Gear Electronic Monitoring Alternative and Deem Whiting and Fixed Gear Electronic Monitoring Regulations

5. Groundfish Essential Fish Habitat (EFH) and Rockfish Conservation Area Amendment

6. Preliminary Preferred Management Measures Alternatives for 2017-18 Fisheries

7. Initial Stock Assessment Plans and Terms of Reference for Groundfish and Coastal Pelagic Species

8. Inseason Adjustments (Final Action)

G. Habitat

1. Current Habitat Issues

H. Coastal Pelagic Species Management

1. Final Action on Sardine Assessment, Specifications, and Management Measures

I. Pacific Halibut Management

1. Final Incidental Landing Restrictions for 2016-17 Salmon Troll Fishery (Final Action)

Advisory Body Agendas

Advisory body agendas will include discussions of relevant issues that are on the Council agenda for this meeting, and may also include issues that may be relevant to future Council meetings. Proposed advisory body agendas for this meeting will be available on the Council Web site http://www.pcouncil.org/council-operations/council-meetings/current-briefing-book/ no later than Tuesday, March 29, 2016.

Schedule of Ancillary Meetings

Day 1—Friday, April 8, 2016

Groundfish Electronic Monitoring Policy Advisory Committee and Groundfish Electronic Monitoring Technical Advisory Committee 8 a.m.

Groundfish Management Team 8 a.m.

Salmon Advisory Subpanel 8 a.m.

Salmon Technical Team 8 a.m.

Habitat Committee (Heathman Lodge; 7801 NE. Greenwood Dr., Vancouver, WA 98662) 9 a.m.

Model Evaluation Workgroup 10 a.m.

Budget Committee 1 p.m.

Legislative Committee 2 p.m.

Tribal Policy Group 7 p.m.

Tribal and Washington Technical Group Ad Hoc

Day 2—Saturday, April 9, 2016

California State Delegation 7 a.m.

Oregon State Delegation 7 a.m.

Washington State Delegation 7 a.m.

Coastal Pelagic Species Advisory Subpanel 8 a.m.

Coastal Pelagic Species Management Team 8 a.m.

Groundfish Advisory Subpanel 8 a.m.

Groundfish Management Team 8 a.m.

Salmon Advisory Subpanel 8 a.m.

Salmon Technical Team 8 a.m.

Scientific and Statistical Committees 8 a.m.

Habitat Committee (Heathman Lodge; 7801 NE. Greenwood Dr., Vancouver, WA 98662) 9 a.m.

Enforcement Consultants 3 p.m.

Tribal Policy Group Ad hoc

Tribal and Washington Technical Group Ad hoc

Day 3—Sunday, April 10, 2016

California State Delegation 7 a.m.

Oregon State Delegation 7 a.m.

Washington State Delegation 7 a.m.

Coastal Pelagic Species Advisory Subpanel 8 a.m.

Coastal Pelagic Species Management Team 8 a.m.

Groundfish Advisory Subpanel 8 a.m.

Groundfish Management Team 8 a.m.

Salmon Advisory Subpanel 8 a.m.

Salmon Technical Team 8 a.m.

Enforcement Consultants Ad hoc

Tribal Policy Group Ad hoc

Tribal and Washington Technical Group Ad hoc

Day 4—Monday, April 11, 2016

California State Delegation 7 a.m.

Oregon State Delegation 7 a.m.

Washington State Delegation 7 a.m.

Groundfish Advisory Subpanel 8 a.m.

Groundfish Management Team 8 a.m.

Salmon Advisory Subpanel 8 a.m.

Salmon Technical Team 8 a.m.

Enforcement Consultants Ad hoc

Tribal Policy Group Ad hoc

Tribal and Washington Technical Group Ad hoc

Day 5—Tuesday, April 12, 2016

California State Delegation 7 a.m.

Oregon State Delegation 7 a.m.

Washington State Delegation 7 a.m.

Groundfish Advisory Subpanel 8 a.m.

Groundfish Management Team 8 a.m.

Salmon Advisory Subpanel 8 a.m.

Salmon Technical Team 8 a.m.

Enforcement Consultants Ad hoc

Tribal Policy Group Ad hoc

Tribal and Washington Technical Group Ad hoc

Day 6—Wednesday, April 13, 2016

California State Delegation 7 a.m.

Oregon State Delegation 7 a.m.

Washington State Delegation 7 a.m.

Groundfish Advisory Subpanel 8 a.m.

Groundfish Management Team 8 a.m.

Salmon Technical Team 8 a.m.

Enforcement Consultants Ad hoc

Tribal Policy Group Ad hoc

Tribal and Washington Technical Group Ad hoc

Day 7—Thursday, April 14, 2016

California State Delegation 7 a.m.

Oregon State Delegation 7 a.m.

Washington State Delegation 7 a.m.

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kris Kleinschmidt at (503) 820-2280 at least 5 days prior to the meeting date.

Dated: March 16, 2016.
Tracey L. Thompson,
Acting Deputy Director, Office of Sustainable Fisheries, National Marine Fisheries Service.

[FR Doc. 2016-06282 Filed 3-18-16; 8:45 am]

BILLING CODE 3510-22-P